DEPARTMENT OF LABOR

Employment and Training Administration

[Docket No. TA-W-52,045]

Agere Systems, Integrated Circuits Division, Reading, PA; Notice of Termination of Investigation

Pursuant to section 221 of the Trade Act of 1974, as amended, an investigation was initiated on June 16, 2003, in response to a worker petition filed by the International Brotherhood of Electrical Workers, AFL-CIO, Local 1898 on behlaf of workers at Agere Systems, Integrated Circuits Division, Reading, Pennsylvania.

The petitioner has requested that the petition be withdrawn. Consequently, the investigation has been terminated.

Linda G. Poole,
Certifying Officer, Division of Trade Adjustment Assistance.

[FR Doc. 03-19225 Filed 7-28-03;8:45am]

BILLING CODE 4510-30-M